DEPARTMENT OF TRANSPORTATION

Federal Aviation Administration

14 CFR Part 39

[Docket No. FAA-2005-20865; Directorate Identifier 2003-NM-103-AD; Amendment 39-14145; AD 2005-13-08]

RIN 2120-AA64

Airworthiness Directives; BAE Systems (Operations) Limited (Jetstream) Model 4101 Airplanes

AGENCY: Federal Aviation Administration (FAA), Department of Transportation (DOT).

ACTION: Final rule.

SUMMARY: The FAA is adopting a new airworthiness directive (AD) for all BAE Systems (Operations) Limited (Jetstream) Model 4101 airplanes. This AD requires the overhaul of certain auxiliary components installed on the main landing gear (MLG) and nose landing gear (NLG). This AD is prompted by manufacturer determination that overhaul limits need to be imposed for certain auxiliary components of the MLG and NLG. Components that exceed the established overhaul limits could fail due to fatigue, wear, and age. We are issuing this AD to prevent failure of the MLG or NLG, and consequent damage to the airplane and injury to flightcrew and passengers.

DATES: This AD becomes effective July 27, 2005.

The incorporation by reference of a certain publication listed in the AD is approved by the Director of the Federal Register as of July 27, 2005.

ADDRESSES: For service information identified in this AD, contact British Aerospace Regional Aircraft American Support, 13850 Mclearen Road, Herndon, Virginia 20171.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20865; the directorate identifier for this docket is 2003-NM-103-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: The FAA proposed to amend 14 CFR part 39 with an AD for all BAE Systems (Operations) Limited (Jetstream) Model 4101 airplanes. That action, published in the Federal Register on April 6, 2005 (70 FR 17373), proposed to require the overhaul of certain auxiliary components installed on the main landing gear (MLG) and nose landing gear (NLG).

Comments

We provided the public the opportunity to participate in the development of this AD. No comments have been submitted on the proposed AD or on the determination of the cost to the public.

Conclusion

We have carefully reviewed the available data and determined that air safety and the public interest require adopting the AD as proposed.

Costs of Compliance

This AD will affect about 57 airplanes of U.S. registry. The following table, using an average labor rate of $65 per hour, provides the estimated costs for U.S. operators to comply with this AD.

Estimated Costs
Replacement | Work hours | Parts cost | Cost per airplane | Fleet cost
MLG shock strut (left and right) | 6 | *$25,000 | $50,390 | $2,872,230
NLG shock strut | 3 | 30,000 | 30,195 | 1,721,115
MLG retract actuator (left and right) | 6 | *6,300 | 12,990 | 740,430
NLG retract actuator | 3 | 4,100 | 4,295 | 244,815
MLG drag brace/actuator (left and right) | 6 | *9,500 | 19,390 | 1,105,230
MLG uplock/actuator (left and right) | 6 | *5,600 | 11,590 | 660,630
NLG downlock/actuator | 3 | 3,200 | 3,395 | 193,515
NLG uplock/actuator | 3 | 2,800 | 2,995 | 170,715
Steering selector valve | 3 | 6,800 | 6,995 | 398,715
Total | 39 | 139,700 | 142,235 | 8,107,395
*Per side.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-13-08 BAE Systems (Operations) Limited (Formerly British Aerospace Regional Aircraft): Amendment 39-14145. Directorate Identifier 2003-NM-103-AD.

Effective Date

(a) This AD becomes effective July 27, 2005.

Affected ADs

(b) None.

Applicability: (c) This AD applies to all BAE Systems (Operations) Limited Model Jetstream 4101 airplanes, certificated in any category.

Unsafe Condition

(d) This AD was prompted by manufacturer determination that overhaul limits need to be imposed for certain auxiliary components of the main landing gear (MLG) and nose landing gear (NLG). Components that exceed the established overhaul limits could fail due to fatigue, wear, and age. We are issuing this AD to prevent failure of the MLG or NLG, and consequent damage to the airplane and injury to flightcrew and passengers.

Compliance: (e) You are responsible for having the actions required by this AD performed within the compliance times specified, unless the actions have already been done.

Overhaul of Landing Gear

(f) Within 18 months after the effective date of this AD, overhaul auxiliary components installed on the MLG and NLG, in accordance with the Accomplishment Instructions of BAE Systems (Operations) Limited Service Bulletin J41-32-081, dated August 6, 2002, except as provided by paragraph (g) of this AD; and thereafter as specified in the “Overhaul Period” column of Table 1 of the Accomplishment Instructions of the service bulletin.

Note 1: BAE Systems (Operations) Limited Service Bulletin J41-32-081 refers to BAE Systems (Operations) Limited Service Bulletin J41-05-001, Revision 2, dated March 15, 2002, as an additional source of service information for calculating estimated usage of affected auxiliary components.

No Reporting Requirement

(g) Although the service bulletin referenced in this AD specifies to submit certain information to the manufacturer, this AD does not include that requirement.

Alternative Methods of Compliance (AMOCs)

(h) The Manager, International Branch, ANM-116, Transport Airplane Directorate, FAA, has the authority to approve AMOCs for this AD, if requested in accordance with the procedures found in 14 CFR 39.19.

Related Information

(i) British airworthiness directive 006-08-2002 also addresses the subject of this AD.

Material Incorporated by Reference

(j) You must use BAE Systems (Operations) Limited Service Bulletin J41-32-081, dated August 6, 2002, to perform the actions that are required by this AD, unless the AD specifies otherwise. The Director of the Federal Register approves the incorporation by reference of this document in accordance with 5 U.S.C. 552(a) and 1 CFR part 51. To get copies of the service information, contact British Aerospace Regional Aircraft American Support, 13850 Mclearen Road, Herndon, Virginia 20171. To view the AD docket, go to the Docket Management Facility, U.S. Department of Transportation, 400 Seventh Street SW., room PL-401, Nassif Building, Washington, DC.

To review copies of the service information, go to the National Archives and Records Administration (NARA). For information on the availability of this material at the NARA, call (202) 741-6030, or go to http://www.archives.gov/federal_register/code_of_federal_regulations/ibr_locations.html.

Issued in Renton, Washington, on June 10, 2005.
Michael J. Kaszycki,
Acting Manager, Transport Airplane Directorate, Aircraft Certification Service.

[FR Doc. 05-12150 Filed 6-21-05; 8:45 am]

BILLING CODE 4910-13-P